DEPARTMENT OF AGRICULTURE

Forest Service

Information Collection: Post-Hurricane Research and Assessment of Agriculture, Forestry, and Rural Communities in the U.S. Caribbean

AGENCY: Forest Service, Agriculture (USDA).

ACTION: Notice; request for comment.

SUMMARY: In accordance with the Paperwork Reduction Act of 1995, the Forest Service is seeking comments from all interested individuals and organizations on the renewal of a currently approved information collection, Post-Hurricane Research and Assessment of Agriculture and Forestry Systems in the U.S. Caribbean (OMB #0596-0246).

DATES: Comments must be received in writing on or before October 10, 2025 to be assured of consideration. Comments received after that date will be considered to the extent practicable.

ADDRESSES: Comments concerning this notice should be addressed to Kathleen McGinley, Social Scientist, USDA Forest Service, International Institute of Tropical Forestry (IITF), Jardín Botánico Sur, 1201 Calle Ceiba, San Juan, PR 00926. Comments also may be submitted by email to: kathleen.mcginley@usda.gov. Please include “Comments re: Post-Hurricane Research” in the subject line.

Comments submitted in response to this notice may be made available to the public through relevant websites and upon request. For this reason, please do not include in your comments information of a confidential nature, such as sensitive personal information or proprietary information. If you send an email comment, your email address will be automatically captured and included as part of the comment that is placed in the public docket and made available on the internet. Please note that responses to this public comment request containing any routine notice about the confidentiality of the communication will be treated as public comments that may be made available to the public notwithstanding the inclusion of the routine notice.

The public may request an electronic copy of the draft supporting statement and/or any comments received be sent via return email. Requests should be emailed to kathleen.mcginley@usda.gov.

FOR FURTHER INFORMATION CONTACT: Kathleen McGinley, Social Scientist, USDA Forest Service, 919-600-3108, kathleen.mcginley@usda.gov. Individuals who are deaf, hard of hearing, deafblind, or have speech disabilities may call 711 to reach the Telecommunications Relay Service and provide the phone number of the person named as a contact for further information.

SUPPLEMENTARY INFORMATION:

Title: Post-Hurricane Research and Assessment of Agriculture, Forestry and Rural Communities in the U.S. Caribbean.

OMB Number: 0596-0426.

Expiration Date of Approval: January 31, 2026.

Type of Request: Renewal without change of a currently approved information collection.

Abstract: Agriculture and forestry systems in the U.S. Caribbean provide many goods and services but experience recurrent disturbances such as hurricanes and tropical storms that can disrupt their productivity and pose challenges to their effective management. Recent hurricanes affecting Puerto Rico and the U.S. Virgin Islands, including Irma and María in 2017, Fiona in 2022, and Ernesto in 2024, underscore the frequency with which hurricanes can occur and their singular and compounding effects across multiple sectors and scales. For instance, in 2022, hurricane Fiona resulted in the reported loss of more than ninety percent of the commercial crops in Puerto Rico, just 5 years after 80 percent of the island's commercial crops had been lost to hurricanes Irma and Maria. Total damages in Puerto Rico from hurricane Fiona were reported to exceed $2.7 billion (USD), making Fiona the third costliest hurricane on record for the island, following María in 2017 and Georges in 1998.

Many laws and policies direct the U.S. Department of Agriculture (USDA) and USDA Forest Service to support productive and sustainable agriculture and natural resource systems that provide benefits to the American public. Many of these are directly relevant to developing and disseminating science-based information on agriculture and forest system response and resilience to disturbances, like hurricanes, including the National Agricultural Research, Extension, and Teaching Policy Act of 1977, the Cooperative Forestry Assistance Act of 1978, the Forest and Rangeland Renewable Resources Research Act of 1978, and the Rural Development Policy Act of 1980.

Shortly after the passage of hurricanes Irma and Maria in 2017, the Forest Service began periodically collecting information on hurricane effects, response, recovery and adaptive capacity in agricultural and forestry systems in the U.S. Caribbean. This information has been collected under Office of Management and Budget (OMB) Approval #0596-0246, initially authorized by OMB under emergency processing procedures in 2018, renewed in 2019 under regular approval, and renewed with revisions that included the expansion of the information collection instruments to include researcher-implemented surveys in 2022.

The Forest Service seeks to obtain OMB approval for renewal of the currently approved information collection #0596-0246 to continue to collect information from farm and forest owners, managers, operators, advisors, and others with a stake in the agriculture and forestry sectors in Puerto Rico and the U.S. Virgin Islands. Renewal of this information collection and continued research on hurricane effects, responses, and related changes over time will enable the Forest Service to provide science-based information critical to the design and implementation of ongoing recovery work in the U.S. Caribbean and to longer-term adaptive management strategies there and in other regions affected by hurricanes or other major disturbances.

Affected Public: Individuals and households, Private sector businesses, Non-profit and Non-governmental organizations, State and Local government.

Estimate of Burden per Response: 15 minutes for surveys, 25 minutes for interviews.

Estimated Annual Number of Respondents: 250.

Estimated Annual Number of Responses per Respondent: 1.

Estimated Total Annual Burden on Respondents: 110 hours.

Comment is Invited: Comment is invited on: (1) whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request for Office of Management and Budget approval.

David Lytle,
Deputy Chief, Research and Development.

[FR Doc. 2025-15187 Filed 8-8-25; 8:45 am]

BILLING CODE 3411-15-P